DEPARTMENT OF ENERGY

Federal Energy Regulatory Commission

[Project No. 199-205]

Santee Cooper Hydroelectric Project; Notice of Availability of the Final Environmental Impact Statement for the Santee Cooper Hydroelectric Project

October 26, 2007.

In accordance with the National Environmental Policy Act of 1969 and the Federal Energy Regulatory Commission (Commission or FERC) regulations contained in the Code of Federal Regulations (CFR)(18 CFR part 380 [FERC Order No. 486, 52 FR 47897]), the Office of Energy Projects staff (staff) reviewed the application for a New Major License for the Santee Cooper Hydroelectric Project, and have prepared a final environmental impact statement (FEIS) for the project which is located on the Santee and Cooper Rivers in Berkeley, Calhoun, Clarendon, Orangeburg, and Sumpter Counties, South Carolina.

The FEIS contains staff's analysis of the applicant's proposal and the alternatives for relicensing the Santee Cooper Hydroelectric Project. The FEIS documents the views of governmental agencies, non-governmental organizations, affected Indian tribes, the public, the license applicant, and Commission staff.

The FEIS will be part of the record from which the Commission will make its decision.

A copy of the FEIS is available for review at the Commission's Public Reference Room (Room 2A, located at 888 First Street, NE., Washington, DC 20426) or may be viewed on the Commission's Web site at http://www.ferc.gov, using the “e-Library” link. Enter the docket number, excluding the last three digits, to access the document. For assistance, contact FERC Online Support at FERCOnlineSupport@ferc.gov or toll-free at (866) 208-3676, or for TTY, contact (202) 502-8659.

CD versions of the FEIS have been mailed to everyone on the mailing list for the project. Copies of the CD, as well as a limited number of paper copies, are available from the Public Reference Room identified above.

You may also register online at http://www.ferc.gov/docs-filing/esubscription.asp to be notified via e-mail of new filings and issuances related to this or other pending projects. For assistance, contact FERC Online Support.

For further information, please contact Monte TerHaar at (202) 502-6035 or at monte.terhaar@ferc.gov.

Kimberly D. Bose,
Secretary.

[FR Doc. E7-21733 Filed 11-5-07; 8:45 am]

BILLING CODE 6717-01-P